NUCLEAR REGULATORY COMMISSION

[Docket No. 52-010]

General Electric Company; Notice of Acceptance of Application for Final Design Approval and Standard Design Certification of the ESBWR Standard Plant Design

Notice is hereby given that the Nuclear Regulatory Commission (NRC, the Commission) has received an application from General Electric Company (GE) dated August 24, 2005, filed pursuant to section 103 of the Atomic Energy Act and Title 10 of the Code of Federal Regulations (10 CFR) Part 52, for the final design approval and standard design certification of the Economic Simplified Boiling Water Reactor (ESBWR) Standard Plant Design. GE supplemented its application by letters dated September 19 and 20, 2005, and October 6, 12, 17, 20, 22 (2 letters), 24 (5 letters), and 28, 2005. The application, as revised and supplemented, is considered sufficiently complete to be accepted formally as a docketed application for design certification. The docket number established for this application is 52-010. A notice relating to the rulemaking pursuant to 10 CFR 52.51 for design certification, including provisions for participation of the public and other parties, will be published in the future.

The ESBWR design is an approximately 1550 megawatt electric boiling water reactor plant design in which passive safety systems are used for the ultimate safety protection of the plant. All of the safety systems are designed to be passive, where natural forces, such as gravity, natural circulation, and stored energy (in the form of pressurized accumulators and batteries), are used as the motive forces of these systems. The ESBWR application includes the entire power generation complex, except those elements and features considered site-specific, and is not a modular design in which major components are shared.

A copy of the application is available on CD-ROM for public inspection at the Commission's Public Document Room (PDR), located at One White Flint North, 11555 Rockville Pike (first floor), Rockville, Maryland. Publicly available records are accessible from the Agencywide Documents Access and Management System (ADAMS) Public Electronic Reading Room on the Internet at the NRC Web site, http://www.nrc.gov/reading-rm/adams.html. The accession number for the application is ML052450245. Future publicly available documents related to the application will also be posted in ADAMS. Persons who do not have access to ADAMS or who encounter problems in accessing the documents located in ADAMS, should contact the NRC Public Document Room Reference staff by telephone at 1-800-397-4209, 301-415-4737 or by e-mail to pdr@nrc.gov.

Dated at Rockville, Maryland, December 1, 2005.
For the Nuclear Regulatory Commission.
William D. Beckner,
Deputy Director, Division of New Reactor Licensing, Office of Nuclear Reactor Regulation.

[FR Doc. E5-7118 Filed 12-8-05; 8:45 am]

BILLING CODE 7590-01-P